DEPARTMENT OF COMMERCE

National Oceanic and Atmospheric Administration

[Docket No.: 030602141-4295-12]

Availability of Grant Funds for Fiscal Year 2005; Sea Grant B The Gulf of Mexico Oyster Industry Program

AGENCY: National Sea Grant College Program, Office of Oceanic and Atmospheric Research, National Oceanic and Atmospheric Administration, Department of Commerce.

ACTION: Notice; extension of Sea Grant Programs forwarding applications.

SUMMARY: The National Oceanic and Atmospheric Administration (NOAA) publishes this notice to extend the date by which Sea Grant Programs must forward applications for the Gulf of Mexico Oyster Industry Program to the National Sea Grant Office (NSGO). The submission date for forwarding applications has been changed to allow more time for the Sea Grant programs to forward proposals to the National Sea Grant College Office. This extension is being granted to ease the transition to electronic grants submissions through the Grants.gov portal. The application deadline for PI's to the state Sea Grant program remains the same.

DATES: The new Preapplication/Application Deadline is as follows: Full proposals must be received by a state Sea Grant Program (or by the National Sea Grant Office (NSGO) in the case of an applicant in a non-Sea Grant state) by 4 p.m. (local time) on November 16, 2004. State Sea Grant Programs must forward all full proposals to the NSGO by 4 p.m. e.s.t. on December 1, 2004.

ADDRESSES: The FFO can be found at http://fedgrants.gov/Applicants/DOC/NOAA/GMC/11417MexicoOyster063004/listing.html. The full notice can be found at: http://fedgrants.gov/Applicants/DOC/NOAA/GMC/11417MexicoOyster063004/listing.html.

FOR FURTHER INFORMATION CONTACT: Jonathan Eigen, 301-713-2438 ext. 188; e-mail: jonathan.eigen@noaa.gov.

SUPPLEMENTARY INFORMATION: NOAA publishes this notice to extend an application deadline for the Gulf of Mexico Oyster Industry Program initiated by the NSGO. The original solicitation of applications was published in the Federal Register on June 30, 2004 (69 FR 39417).

The date by which the state Sea Grant Office must forward full applications to the National Sea Grant Office has been changed from November 16, 2004, to December 1, 2004, to allow more time for the Sea Grant programs to forward proposals to the National Sea Grant College Office.

This extension is being granted to ease the transition to electronic grants submissions through the Grants.gov portal. The application deadline for PI's to the state Sea Grant program remains the same.

In addition, the FFO has been modified to permit the submission of Electronic Applications through the Grants.gov Web site and to reduce the number of copies required for paper submission.

Dated: October 29, 2004.
Louisa Koch,
Deputy Assistant Administrator, OAR, National Oceanic and Atmospheric Administration.

[FR Doc. 04-24537 Filed 11-2-04; 8:45 am]

BILLING CODE 3510-KA-P